DEPARTMENT OF COMMERCE

International Trade Administration

[A-570-906, A-560-820, and A-580-856]

Postponement of Preliminary Determinations in the Antidumping Duty Investigations of Coated Free Sheet Paper from the People's Republic of China, Indonesia, and the Republic of Korea

AGENCY: Import Administration, International Trade Administration, Department of Commerce.

FOR FURTHER INFORMATION CONTACT: Magd Zalok (People's Republic of China), Irina Itkin (Indonesia) or Joy Zhang (Republic of Korea), Import Administration, International Trade Administration, U.S. Department of Commerce, 14th Street and Constitution Avenue, NW, Washington, DC 20230; telephone: (202) 482-4162, (202) 482-0656, or (202) 482-1168, respectively.

SUPPLEMENTARY INFORMATION:

Postponement of Preliminary Determination

On November 20, 2006, the Department of Commerce (Department) initiated the antidumping duty investigations of coated free sheet paper from the People's Republic of China (PRC), Indonesia and the Republic of Korea. See Initiation of Antidumping Duty Investigations: Coated Free Sheet Paper from Indonesia, the People's Republic of China, and the Republic of Korea, 71 FR 68537 (November 27, 2006). The notice of initiation stated that, unless postponed, the Department would make its preliminary determinations in these antidumping duty investigations no later than 140 days after the date of the initiation.

On March 1, and 2, 2007, NewPage Corporation (Petitioner) made timely requests pursuant to 19 CFR 351.205(e) for a fifty-day postponement of the preliminary determinations in these investigations. Petitioner requested postponement of the preliminary determinations because it needed additional time to evaluate the questionnaire responses filed by respondents, develop surrogate values (in the PRC investigation) and, if warranted, prepare an allegation of targeted dumping.

For the reasons identified by the Petitioner, and because there are no compelling reasons to deny the request, the Department is postponing these preliminary determinations under section 733(c)(1)(A) of the Tariff Act of 1930, as amended (“Act”), by fifty days to May 29, 2007. The deadline for the final determination will continue to be 75 days after the date of the preliminary determination, unless extended.

This notice is issued and published pursuant to sections 733(c)(2) of the Act and 19 CFR 351.205(f)(1).

Dated: March 12, 2007.
David M. Spooner,
Assistant Secretary for Import Administration.

[FR Doc. E7-4945 Filed 3-16-07; 8:45 am]

BILLING CODE 3510-DS-S